DEPARTMENT OF THE INTERIOR

Fish and Wildlife Service

Draft Recovery Plan for the Tidewater Goby (Eucyclogobius newberryi)

AGENCY: Fish and Wildlife Service, Interior.

ACTION: Notice of document availability for review and comment.

SUMMARY: The U.S. Fish and Wildlife Service (we) announces the availability of the Draft Recovery Plan for the Tidewater Goby (Eucyclogobius newberryi) for public review and comment. The tidewater goby is a small fish that inhabits coastal brackish water habitats entirely within California, ranging from Tillas Slough (mouth of the Smith River, Del Norte County) near the Oregon border south to Agua Hedionda Lagoon (northern San Diego County). This draft recovery plan describes the status, current management, recovery objectives and criteria, and specific actions needed to reclassify the tidewater goby from endangered to threatened, and to ultimately delist it. We solicit review and comment from local, State, and Federal agencies, and the public on this draft recovery plan.

DATES: Comments on the draft recovery plan must be received on or before January 18, 2005 to receive our consideration.

ADDRESSES: A copy of the draft recovery plan is available for review, by appointment, during normal business hours at the following location: U.S. Fish and Wildlife Service, Ventura Fish and Wildlife Office, 2493 Portola Road, Suite B, Ventura, California 93003 (telephone 805-644-1766). An electronic copy of the draft recovery plan is also available on the World Wide Web at http://pacific.fws.gov/ecoservices/endangered/recovery/plans.html and http://endangered.fws.gov/recovery/index.html#plans. Printed copies of the draft recovery plan will be available for distribution in 4 to 6 weeks.

FOR FURTHER INFORMATION CONTACT: Chris Dellith, Fish and Wildlife Biologist, at the above Sacramento address.

SUPPLEMENTARY INFORMATION:

Background

Restoring endangered or threatened animals and plants to the point where they are again secure, self-sustaining members of their ecosystems is a primary goal of our endangered species program. To help guide the recovery effort, we are working to prepare recovery plans for most of the listed species native to the United States. Recovery plans describe actions considered necessary for the conservation of the species; establish criteria for the recovery levels for downlisting or delisting them, and estimate time and cost for implementing the recovery measures needed.

Section 4(f) of the Endangered Species Act (Act) (16 U.S.C. 1531 et seq.) requires that public notice and an opportunity for public review and comment be provided during recovery plan development. We will consider all information presented during the public comment period prior to approval of each new or revised recovery plan. Substantive technical comments will result in changes to the plan as appropriate. Substantive comments regarding recovery plan implementation may not necessarily result in changes to the recovery plan, but will be forwarded to appropriate Federal or other entities so that they can take these comments into account during the course of implementing recovery actions. Individual responses to comments will not be provided.

This draft recovery plan was developed by the Tidewater Goby Recovery Team. We coordinated with the California Department of Fish and Game and a team of stakeholders, which included landowners and managers, agency representatives, and non-government organizations.

The tidewater goby was listed as an endangered species on March 7, 1994 (59 FR 5494). The tidewater goby is threatened primarily by modification and loss of habitat as a result of coastal development, channelization of habitat, diversions of water flows, groundwater overdrafting, and alteration of water flows. Actions needed to recover the tidewater goby include: (1) Monitor, protect, and enhance currently occupied tidewater goby habitat; (2) conduct biological research to enhance the ability to integrate land use practices with tidewater goby recovery and revise recovery tasks as pertinent new information becomes available; (3) evaluate and implement translocation where appropriate; and (4) increase public awareness about tidewater gobies.

Public Comments Solicited

We solicit written comments on the draft recovery plan described. All comments received by the date specified above will be considered in developing a final recovery plan.

Authority

The authority for this action is section 4(f) of the Endangered Species Act, 16 U.S.C. 1533(f).

Dated: October 20, 2004.
Vicki L. Campbell,
Manager, California/Nevada Operations Office, U.S. Fish and Wildlife Service.

[FR Doc. 04-25541 Filed 11-17-04; 8:45 am]

BILLING CODE 4310-55-P